DEPARTMENT OF DEFENSE

Office of the Secretary

Defense Science Board

AGENCY: Office of the Secretary, DoD.

ACTION: Notice of advisory committee meetings.

SUMMARY: The Defense Science Board Task Force on Time Critical Conventional Strike from Strategic Standoff will meet in closed session on November 28 and 29, 2006; at the Science Applications International Corporation, 4001 N. Fairfax Drive, Arlington, VA.

The mission of the Defense Science Board is to advise the Secretary of Defense and the Under Secretary of Defense for Acquisition, Technology & Logistics on scientific and technical matters as they affect the perceived needs of the Department of Defense. At these meetings, the Defense Science Board Task Force will: Assess the various attributes associated with time critical conventional strike.

In accordance with Section 10(d) of the Federal Advisory Committee Act, Pub. L. 92-463, as amended (5 U.S.C. App. II), it has been determined that these Defense Science Board Task Force meetings concern matters listed in 5 U.S.C. 552b(c)(1) and that, accordingly, the meetings will be closed to the public.

FOR FURTHER INFORMATION CONTACT: Mr. Andrew Chappell, USA Military Assistant, Defense Science Board, 3140 Defense Pentagon, Room 3C553, Washington, DC 20301-3140, via e-mail at andrew.chappel@osd.mil, or via phone at (703) 571-0082.

Dated: November 3, 2006.
L.M. Bynum,
Alternate OSD Federal Register Liaison Officer, Department of Defense.

[FR Doc. 06-9137 Filed 11-8-06; 8:45 am]

BILLING CODE 5001-06-M